FEDERAL COMMUNICATIONS COMMISSION

47 CFR Part 64

[CG Docket No. 02-278; DA 02-3210]

Rules and Regulations Implementing the Telephone Consumer Protection Act (TCPA) of 1991

AGENCY: Federal Communications Commission.

ACTION: Proposed rule; reopening of comment period.

SUMMARY: On September 18, 2002, the Commission released a document (67 FR 62667, Oct. 8, 2002) seeking comment on whether it should change its rules restricting telemarketing calls and facsimile advertisements. This document grants, in part, and denies, in part, the motion of the American Teleservices Association (ATA) to extend the time to file comments in our TCPA proceeding in CG Docket No. 02-278.

DATES: Comments are due in this proceeding on December 9, 2002, and reply comments are due January 8, 2003.

ADDRESSES: Parties who choose to file comments by paper must file an original and four copies with the Commission's Secretary, Marlene H. Dortch, Office of the Secretary, Federal Communications Commission, 445 12th Street, SW., Room TW-A325, Washington, DC 20554. Comments may also be filed using the Commission's Electronic Filing System, which can be accessed via the Internet at http://www.fcc.gov/e-file/ecfs.html.

FOR FURTHER INFORMATION CONTACT: Erica H. McMahon or Richard D. Smith, Consumer & Governmental Affairs Bureau, (202) 418-2512.

SUPPLEMENTARY INFORMATION: On November 13, 2002, the American Teleservices Association (ATA) filed a motion for extension of time to file comments in CG Docket No. 02-278. It is not Commission policy to routinely grant extensions of time. However, we find that a brief extension of time to file comments in this proceeding is in the public interest. We therefore grant, in part, and deny, in part, ATA's request to extend the comment period in this proceeding. In so doing, we note that many parties seeking to file comments in this proceeding are consumers who may lack familiarity with the Commission's process for filing comments. We believe an extension of time will help to ensure that these parties have ample opportunity to participate. In addition, because the Consumer & Governmental Affairs Bureau (Bureau) responded to ATA's FOIA request on November 14, 2002 by giving ATA 250 redacted complaints, the additional time will afford ATA ample opportunity to review those complaints. Finally, we extend the reply comment period to 30 days following the comment deadline to allow parties a sufficient opportunity to respond to the large number of comments already filed in this proceeding. As of November 19, 2002, over 4,100 comments have been filed in response to the Notice of Proposed Rulemaking (Notice).

We decline, however, to extend the comment period to the full extent requested by ATA. We do not believe that it would be in the public interest to delay this entire proceeding by several months based on the rationale provided in ATA's motion. In particular, we disagree with ATA's contention that ATA must obtain the approximately 11,000 TCPA-related complaints and 1,500 inquiries filed from 2000-2001 prior to commenting on the issues presented in the Notice. The Notice presents, in detail, the specific issues and rules that are under consideration for review in this proceeding. We believe this information allows parties a full and complete opportunity to respond to these issues. In addition, as noted above, the Commission has provided 250 such complaints to ATA in response to its FOIA request. ATA will have an opportunity to analyze those complaints prior to submitting its comments. The Commission intends to work diligently to provide a complete response to ATA's FOIA request. To the extent necessary, ATA will have additional opportunities to supplement its comments through ex parte filings.

List of Subjects in 47 CFR Part 64

Telephone.

Federal Communications Commission.
Margaret M. Egler,
Deputy Chief, Consumer & Governmental Affairs Bureau.

[FR Doc. 02-30252 Filed 11-27-02; 8:45 am]

BILLING CODE 6712-01-P